ENVIRONMENTAL PROTECTION AGENCY

[FRL-7780-3]

Public Water System Supervision Program Revision for the State of North Carolina

AGENCY: Environmental Protection Agency (EPA).

ACTION: Notice of Tentative Approval.

SUMMARY: Notice is hereby given that the State of North Carolina is revising its approved Public Water System Supervision Program. North Carolina has adopted drinking water regulations for the Interim Enhanced Surface Water Treatment Rule and the Stage 1 Disinfection and Disinfectants Byproducts Rule. EPA has determined that these revisions are no less stringent than the corresponding Federal regulations. Therefore, EPA intends on approving this State program revision.

All interested parties may request a public hearing. A request for a public hearing must be submitted by July 30, 2004, to the Regional Administrator at the address shown below. Frivolous or insubstantial requests for a hearing may be denied by the Regional Administrator. However, if a substantial request for a public hearing is made by July 30, 2004, a public hearing will be held. If no timely and appropriate request for a hearing is received and the Regional Administrator does not elect to hold a hearing on his own motion, this determination shall become final and effective on July 30, 2004. Any request for a public hearing shall include the following information: (1) The name, address, and telephone number of the individual organization, or other entity requesting a hearing; (2) a brief statement of the requesting person's interest in the Regional Administrator's determination and a brief statement of the information that the requesting person intends to submit at such hearing; (3) the signature of the individual making the request, or, if the request is made on behalf of an organization or other entity, the signature of a responsible official of the organization or other entity.

ADDRESSES: All documents relating to this determination are available for inspection between the hours of 8 a.m. and 4:30 p.m., Monday through Friday, at the following offices:

North Carolina Department of Environment and Natural Resources, Public Water Supply Section, Parker-Lincoln Building, 2728 Capital Boulevard, Raleigh, North Carolina 27604.

Environmental Protection Agency, Region 4, Drinking Water Section, 61 Forsyth Street, SW., Atlanta, Georgia 30303.

FOR FURTHER INFORMATION CONTACT: Madolyn Dominy, EPA Region 4, Drinking Water Section at the Atlanta address given above (telephone (404) 562-9305).

Authority: Section 1401 and section 1413 of the Safe Drinking Water Act, as amended (1996), and 40 CFR part 142.

Dated: June 23, 2004.
J.I. Palmer, Jr.,
Regional Administrator, EPA Region 4.

[FR Doc. 04-14828 Filed 6-29-04; 8:45 am]

BILLING CODE 6560-50-P